DEPARTMENT OF COMMERCE

International Trade Administration

[A-489-844]

Certain Aluminum Foil From the Republic of Türkiye: Final Results of Antidumping Duty Administrative Review; 2021-2022

AGENCY: Enforcement and Compliance, International Trade Administration, Department of Commerce.

SUMMARY: The U.S. Department of Commerce (Commerce) determines that certain producers and exporters subject to this administrative review made sales of subject merchandise at less than normal value during the period of review (POR) September 23, 2021, through October 31, 2022.

DATES: Applicable June 10, 2024.

FOR FURTHER INFORMATION CONTACT: Bryan Hansen or Christopher Williams, AD/CVD Operations, Office I, Enforcement and Compliance, International Trade Administration, U.S. Department of Commerce, 1401 Constitution Avenue NW, Washington, DC 20230; telephone: (202) 482-3683 and (202) 482-5166, respectively.

SUPPLEMENTARY INFORMATION:

Background

On November 12, 2021, Commerce published in the Federal Register the antidumping duty order on certain aluminum foil (aluminum foil) from the Republic of Türkiye (Türkiye).¹ On December 7, 2023, Commerce published the Preliminary Results of the 2021-2022 administrative review of the antidumping duty order on certain aluminum foil (aluminum foil) from Türkiye and invited interested parties to comment.² The review covers four companies, including two mandatory respondents, Assan Aluminyum Sanayi ve Ticaret A.S., Kibar Dis Ticaret A.S., and Ispak Esnek Ambalaj Sanayi A.S. (collectively, the Assan Single Entity),³ and ASAS Aluminyum Sanayi Ve Ticaret A.S. (ASAS).⁴ On May 10, 2024, Commerce extended the deadline for issuing the final results until June 4, 2024.⁵ For a complete description of the events that occurred since the Preliminary Results, see the Issues and Decision Memorandum.⁶ Commerce conducted this review in accordance with section 751(a)(1)(B) of the Tariff Act of 1930, as amended (the Act).

¹ See Certain Aluminum Foil from the Republic of Armenia, Brazil, the Sultanate of Oman, the Russian Federation, and the Republic of Turkey: Antidumping Duty Orders, 86 FR 62790 (November 12, 2021) (Order).

² See Certain Aluminum Foil from the Republic of Turkey: Preliminary Results of Antidumping Duty Administrative Review; 2021-2022, 88 FR 85237 (December 7, 2023) (Preliminary Results) and accompanying Preliminary Decision Memorandum (PDM).

³ Commerce previously determined in the investigation that these three companies are a single entity and no party has challenged that determination in this review. See Certain Aluminum Foil from the Republic of Turkey: Final Affirmative Determination of Sales at Less Than Fair Value, 86 FR 52880 n.10 (September 23, 2021).

⁴ We initiated this administrative review of ASAS Aluminyum Sanayi ve Ticaret A.S. See Initiation of Antidumping and Countervailing Duty Administrative Reviews, 88 FR 50, 55 (January 3, 2023). In the Preliminary Results, we inadvertently omitted the suffix A.S. from this company's name. See Preliminary Results, 88 FR at 85238.

⁵ See Memoranda, “Extension of Deadline for Final Results of Antidumping Duty Administrative Review; 2021-2022,” dated February 27, 2024, and “Extension of Deadline for Final Results of Antidumping Duty Administrative Review; 2021-2022,” dated May 10, 2024.

⁶ See Memorandum, “Issues and Decision Memorandum for the Final Results of the Administrative Review of the Antidumping Duty Order on Certain Aluminum Foil from the Republic of Türkiye; 2021-2022,” dated concurrently with, and hereby adopted by this notice (Issues and Decision Memorandum).

Scope of the Order

The product covered by the Order is aluminum foil from Türkiye. For a full description of the scope of the Order, see the Issues and Decision Memorandum.⁷

⁷ Id.

Analysis of Comments Received

The issues raised by the interested parties in their case and rebuttal briefs are addressed in the Issues and Decision Memorandum. The topics discussed in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on a review of the record and the comments received from interested parties, we made changes to the Preliminary Results with respect to the margins calculated for the respondents. For further details, see the Issues and Decision Memorandum.

Rate for Non-Examined Companies

The statute and regulations do not address the establishment of a rate to be assigned to respondents not selected for individual examination when we limit our examination of companies subject to the administrative review pursuant to section 777A(c)(2)(B) of the Act. Generally, Commerce looks to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, in the final results of review, we are assigning to the companies not individually examined, listed in the chart below, a weighted-average dumping margin based on the average of the individually calculated weighted-average dumping margins of the Assan Single Entity and ASAS weighted by their publicly available ranged U.S. sales values.⁸

⁸ See Memorandum, “Final Rate for Non-Selected Companies,” dated concurrently with this notice.

Final Results of Review

Commerce determines that the following estimated weighted-average dumping margins exist for the period September 23, 2021, through October 31, 2022:

Producer or exporter | Weighted- average dumping margin (percent)
Assan Aluminyum Sanayi ve Ticaret A.S.; Kibar Dis Ticaret A.S.; and Ispak Esnek Ambalaj Sanayi A.S | 1.41
ASAS Aluminyum Sanayi Ve Ticaret A.S | 1.88
Ilda Pack Ambalaj | 1.49
Panda Aluminyum A.S | 1.49

Disclosure

Commerce intends to disclose the calculations performed in connection with the final results to interested parties within five days of the date of publication of this notice in the Federal Register, in accordance with 19 CFR 351.224(b).

Assessment of Antidumping Duties

Pursuant to section 751(a)(2)(C) of the Act and 19 CFR 351.212(b), Commerce has determined, and U.S. Customs and Border Protection (CBP) shall assess, antidumping duties on all appropriate entries of subject merchandise in accordance with the final results of this review. Because the weighted-average dumping margins for the Assan Single Entity and ASAS are not zero or de minimis (i.e., less than 0.5 percent) in the final results of this review, we calculated an importer-specific assessment rate based on the ratio of the total amount of dumping calculated for each importer's examined sales and the total entered value of those same sales in accordance with 19 CFR 351.212(b)(1).⁹ Where an importer-specific assessment rate is zero or de minimis (i.e., less than 0.5 percent), the entries by that importer will be liquidated without regard to antidumping duties. The final results of this administrative review shall be the basis for the assessment of antidumping duties on entries of merchandise covered by the final results of this review and for future deposits of estimated duties, where applicable.¹⁰

⁹ In these final results, Commerce applied the assessment rate calculation method adopted in Antidumping Proceedings: Calculation of the Weighted-Average Dumping Margin and Assessment Rate in Certain Antidumping Duty Proceedings; Final Modification, 77 FR 8101 (February 14, 2012).

¹⁰ See section 751(a)(2)(C) of the Act.

For entries of subject merchandise during the POR produced by either of the individually examined respondents for which they did not know that the merchandise they sold to the intermediary (e.g., a reseller, trading company, or exporter) was destined for the United States, we will instruct CBP to liquidate unreviewed entries at the all-others rate if there is no rate for the intermediate company(ies) involved in the transaction.¹¹

¹¹ For a full discussion of this practice, see Antidumping and Countervailing Duty Proceedings: Assessment of Antidumping Duties, 68 FR 23954 (May 6, 2003).

For all non-examined companies subject to this review, we will instruct CBP to liquidate all entries of subject merchandise that entered the United States during the POR and assess antidumping duties at a rate equal to the weighted-average dumping margin listed above.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the date of publication of the final results of this administrative review as provided by section 751(a)(2) of the Act: (1) the cash deposit rate for companies subject to this review will be equal to the company-specific weighted-average dumping margin established in the final results of the review; (2) for merchandise exported by companies not covered in this review but covered in a prior segment of this proceeding, the cash deposit rate will continue to be the company-specific rate published in the completed segment for the most recent period; (3) if the exporter is not a firm covered in this review or a prior segment of the proceeding (e.g., the original investigation of sales at less than fair value (LTFV)) but the producer is, then the cash deposit rate will be the rate established in the completed segment for the most recent period for the producer of the merchandise; and (4) the cash deposit rate for all other producers or exporters will continue to be 1.95 percent,¹² the all-others rate established in the LTFV investigation, adjusted for the export-subsidy rate in the companion countervailing duty investigation. These cash deposit requirements, when imposed, shall remain in effect until further notice.

¹² See Certain Aluminum Foil from the Republic of Turkey: Final Affirmative Determination of Sales at Less Than Fair Value, 86 FR 52880 (September 23, 2021).

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing this notice in accordance with sections 751(a)(1) and 777(i)(1) of the Act and 19 CFR 351.221(b)(5).

Dated: June 4, 2024.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. Changes Since the Preliminary Results

V. Discussion of the Issues

Comment 1: Duty Drawback Adjustment

Comment 2: Calculation of the Per-Unit Duty Drawback Adjustment for ASAS

Comment 3: Early Payment Discount Adjustment

Comment 4: Interest Expenses as Part of U.S. Indirect Selling Expenses

Comment 5: Monthly Comparisons of U.S. Price With Normal Value Due to High Inflation

Comment 6: Turkish Lira (TL)-Denominated Home Market Sales Invoices

Comment 7: Reporting Physical Characteristics for Gauge

Comment 8: Application of Billing Adjustment

Comment 9: Average Raw Material Metal Premium Costs

Comment 10: Inclusion of “Goods in Transit” in Manual Adjustment Ratio for Cost of Manufacture

VI. Recommendation

[FR Doc. 2024-12653 Filed 6-7-24; 8:45 am]

BILLING CODE 3510-DS-P